ENVIRONMENTAL PROTECTION AGENCY

[EPA-HQ-OPPT-2003-0004; FRL-9959-94]

Access to Confidential Business Information by Artic Slope Mission Services, LLC

AGENCY: Environmental Protection Agency (EPA).

ACTION: Notice.

SUMMARY: EPA has authorized its contractor, Artic Slope Mission Services, LLC (ASMS) of Beltsville, MD, to access information which has been submitted to EPA under all sections of the Toxic Substances Control Act (TSCA). Some of the information may be claimed or determined to be Confidential Business Information (CBI).

DATES: Access to the confidential data occurred on or about February 13, 2017.

FOR FURTHER INFORMATION CONTACT: For technical information contact: Scott M. Sherlock, Environmental Assistance Division (7408M), Office of Pollution Prevention and Toxics, Environmental Protection Agency, 1200 Pennsylvania Ave. NW., Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004 is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the agency taking?

Under EPA contract number EP-W-17-011, order number 0021, contractor ASMS of 7000 Muirkirk Meadows Drive, Suite 100, Beltsville, MD is assisting the Office of Pollution Prevention and Toxics (OPPT) in managing the Confidential Business Information Center (CBIC), which is the centralized point of contact for TSCA CBI records and services as the repository for these records. ASMS is also receiving, entering data, copying, tracking and distributing records in accordance with the TSCA Security Manual.

In accordance with 40 CFR 2.306(j), EPA has determined that under EPA contract number EP-W-17-011, order number 0021, ASMS required access to CBI submitted to EPA under all sections of TSCA to perform successfully the duties specified under the contract. ASMS personnel were given access to information submitted to EPA under all sections of TSCA. Some of the information may be claimed or determined to be CBI.

EPA is issuing this notice to inform all submitters of information under all sections of TSCA that EPA has provided ASMS access to these CBI materials on a need-to-know basis only. All access to TSCA CBI under this contract is taking place at EPA Headquarters in accordance with EPA's TSCA CBI Protection Manual.

Access to TSCA data, including CBI, will continue until February 14, 2022. If the contract is extended, this access will also continue for the duration of the extended contract without further notice.

ASMS personnel were required to sign nondisclosure agreements and were briefed on appropriate security procedures before they are permitted access to TSCA CBI.

Authority: 15 U.S.C. 2601 et seq.

Dated: March 6, 2017.
Pamela Myrick,
Director, Information Management Division, Office of Pollution Prevention and Toxics.

[FR Doc. 2017-09557 Filed 5-10-17; 8:45 am]

BILLING CODE 6560-50-P